INTERNATIONAL TRADE COMMISSION

[Investigation No. 332-599]

Distributional Effects of Trade and Trade Policy on U.S. Workers, 2026 Report

AGENCY: International Trade Commission.

ACTION: Notice of scheduling of community conversations and a symposium in connection with the investigation.

SUMMARY: The Commission has established a schedule and procedure, set forth below, for conducting community-based open conversations, which will include roundtables, focus group meetings, and small-group conversations, among other events, and a symposium in connection with this investigation. The Commission will hold six virtual roundtable discussions between January 15 and February 12, 2025; in-person roundtables and focus group meetings during March-May 2025; and an academic symposium on June 5-6, 2025. Additional in-person and virtual events may be held during October 2024-May 2025.

These events will focus on the potential distributional effects of goods and services trade and trade policy on U.S. workers and underrepresented and underserved communities, including but not limited to examining distributional effects by race and ethnicity; gender; gender identity and orientation; age; and skill, wage, and income, as well as effects on persons with disabilities, persons who live in rural areas or urban areas and persons otherwise adversely affected by persistent poverty, and members of religious minorities. The events will afford an opportunity for interested persons to present information and views relating to the investigation, and the academic symposium will afford an opportunity for researchers and data experts to present work relevant to the investigation.

DATES: Relating to the virtual roundtables:

January 8, 2025: Deadline for summitting requests to participate in the Roundtable on Gender and Gender Identity

January 15: Roundtable on Gender and Gender Identity

January 15: Deadline for summitting requests to participate in the Roundtable on Skill, Wage, and Income

January 22: Roundtable on Skill, Wage, and Income

January 22: Deadline for summitting requests to participate in the Roundtable on Age and Disability

January 29: Roundtable on Age and Disability

January 29: Deadline for summitting requests to participate in the Roundtable on Race and Ethnicity

February 5: Roundtable on Race and Ethnicity

February 5: Deadline for summitting requests to participate in the Roundtable on Rural Persistent Poverty

February 5: Deadline for summitting requests to participate in the Roundtable on Urban Persistent Poverty

February 10: Roundtable on Rural Poverty

February 12: Roundtable on Urban Poverty

Relating to other community-based open conversations:

The USITC is planning to hold in-person community conversations in the vicinity of five U.S. cities during March-May 2025:

March 2025: Tulsa, OK

April 2025: El Paso, TX

April 2025: Seattle, WA

May 2025: Youngstown, OH

May 2025: Atlanta, GA

Additional in-person and virtual events may be held during October 2024-May 2025. Dates for these events will be posted on the USITC investigation-specific web page, found at https://www.usitc.gov/research_and_analysis/ongoing/distributional_effects_332, as they become available.

Relating to the academic symposium:

April 15: Deadline for requests to participate

June 5-6: Washington, DC (virtual and in person)

Relating to written submissions:

July 11: Deadline for receipt of written submissions and summaries to written submissions.

All dates are subject to change, and events may be removed or added to the calendar as issues and opportunities arise. For the most up-to-date information on investigation events, please see the USITC investigation-specific web page at https://www.usitc.gov/research_and_analysis/ongoing/distributional_effects_332.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Project Leader Saad Ahmad (202-205-3331 or saad.ahmad@usitc.gov), Deputy Project Leader Theron Gray (202-205-3132 or theron.gray@usitc.gov), Co-Community-Based Open Conversations Coordinator Tamar Khachaturian (202-205-3299 or tamar.khachaturian@usitc.gov) or Co-Community-Based Open Conversations Coordinator Jennifer Powell (202-205-3450, Jennifer.powell@usitc.gov) for information specific to this investigation. For information on the legal aspects of this investigation, contact Brian Allen (202-205-3034 or brian.allen@usitc.gov) or William Gearhart (202-205-3091 or william.gearhart@usitc.gov) of the Commission's Office of the General Counsel. The media should contact Jennifer Andberg, Office of External Relations (202-205-3404 or jennifer.andberg@usitc.gov). Hearing-impaired individuals are advised that information on this matter can be obtained by contacting the Commission's TDD terminal on 202-205-1810. General information concerning the Commission may also be obtained by accessing its website (https://www.usitc.gov). Persons with mobility impairments who will need special assistance in gaining access to the Commission should contact the Office of the Secretary at 202-205-2000.

SUPPLEMENTARY INFORMATION: The Commission instituted this investigation under section 332(g) of the Tariff Act of 1930 (19 U.S.C. 1332(g)) on July 12, 2003, following receipt on January 25, 2023, of a request from the U.S. Trade Representative. The Commission published notice of its investigation in the Federal Register on July 12, 2023 (86 FR 67970).

The Trade Representative, referring to the Commission's 2022 report (USITC, Distributional Effects of Trade and Trade Policy on U.S. Workers, Investigation No. 332-587, USITC Publication 5374, October 2022, https://www.usitc.gov/sites/default/files/publications/332/pub5374.pdf), requested that the Commission, building on that report, conduct a further investigation on the potential distributional effects of goods and services trade and trade policy on U.S. workers and underrepresented and underserved communities. The Trade Representative requested that the Commission prepare a series of five reports that synthesize and critically review information on this topic. The Trade Representative asked that the Commission deliver the first of these reports on January 20, 2026, and deliver the remaining reports at 3-year intervals, on January 20, 2029; January 20, 2032; January 20, 2035; and January 20, 2038. The Commission will institute investigations and publish notices of investigation relating to the remaining reports at the appropriate time.

The Trade Representative asked that the Commission, in identifying these effects, gather information through:

1. Community-based open conversations targeted to the interests and concerns of specific underrepresented and underserved demographic and geographic communities. These conversations may take a variety of forms (including, but not limited to, group discussions and informal one-on-one interviews) and may be on- or off-the-record. They should include individual community members, workers, and representatives of organizations that represent and serve specific underrepresented and underserved communities. Other participants could include members or representatives of think tanks; academic and other research institutions; labor unions; State and local governments; non-Federal governmental entities; civil society organizations; community-based stakeholders such as minority-owned businesses; business incubators; Historically Black Colleges and Universities (HBCUs); Hispanic-Serving Institutions (HSIs); Tribal Colleges and Universities (TCUs); Asian American and Native American Pacific Islander-Serving Institutions (AANAPISIs); other Minority-Serving Institutions (MSIs); community colleges; and local and national civil rights organizations;

2. A symposium focused on academic or similar research on the distributional effects of trade and trade policy on underrepresented and underserved communities, including results of existing analysis, evaluation of methodologies, the use of public and restricted data in current analysis, identification of gaps in data and/or in the economic literature, and proposed analysis that could be done with restricted data; and

3. Economic literature on the distributional effects of trade and trade policy on underrepresented and underserved communities including, among other things, the data limitations raised in these analyses.

Persons participating in the academic symposium and community-based open conversations should not include confidential business information (CBI) in any written submissions, statements, or presentations intended for use at these events.

Community-based open conversations: The Commission will hold multiple events for the purpose of seeking information and views from representatives of U.S. workers and underrepresented and underserved communities on the distributional effects of trade and trade policy by race and ethnicity; gender; gender identity and orientation; age; and skill, wage, and income, as well as effects on persons with disabilities, persons who live in rural areas or urban areas and persons otherwise adversely affected by persistent poverty, and members of religious minorities. Certain events will have a theme (for example, as specified in the Dates section of this notice); however, any interested person is welcome to present views in accordance with this investigation at these events, regardless of theme.

The virtual roundtables will be open to the public, and will be held via an online videoconferencing platform, beginning at 1 p.m. Eastern Standard Time (EST) on the dates specified in the Dates section of this notice. The virtual roundtables will be recorded, transcribed, and be publicly accessible. Those wishing to attend or participate in a virtual roundtable should register by 5:15 p.m. EST on the day specified in the Dates section above by emailing DE@usitc.gov. Attendees and participants will receive further information upon registration. Additional details about individual roundtables will be posted on the investigation-specific website listed above, and interested parties should check that website periodically for updates.

In-person roundtables and focus group conversations will be made accessible to in-person and virtual observers to the extent that resources permit. The conversations will also be recorded and transcribed for purposes of aiding in the generation of the Commission's final report as resources permit. Additional details about these events will be posted on the investigation-specific website as they become available, and those wishing to participate in these events should register by emailing DE@usitc.gov.

Individuals that wish to provide input to this investigation but are unable or unwilling to participate in public events should contact project staff by emailing DE@usitc.gov.

Symposium: The Commission will hold the academic symposium beginning at 9:00 a.m. EST on June 5, 2025. Persons interested either in presenting work (published or ongoing) or serving on a panel discussion at the symposium should submit their request by emailing DE@usitc.gov. Requests to participate in the academic symposium should include the participant's background on research related to analyzing the distributional effects of trade and trade policy on U.S. workers and underrepresented and underserved communities and be emailed by 5:15 p.m. on April 15, 2025.

Written submissions: In lieu of or in addition to participating in events related to this investigation, interested persons are invited to file written submissions concerning this investigation. All written submissions should be addressed to the Secretary, and should be received no later than 5:15 p.m., July 11, 2025. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person, paper-based filings or paper copies of any electronic filings will be accepted until further notice. Persons with questions regarding electronic filing should contact the Office of the Secretary, Docket Services Division (202-205-1802), or consult the Commission's Handbook on Filing Procedures.

Definitions of types of documents that may be filed; Requirements: This notice provides for the possible filing of one type of document: written submissions.

Written submissions refers to any written submissions that interested persons wish to make, regardless of whether they appeared at an event related to this investigation, and may include new information or updates of information previously provided.

In accordance with the provisions of section 201.8 of the Commission's Rules of Practice and Procedure (19 CFR 201.8), the document must identify on its cover (1) the investigation number and title and the type of document filed (i.e., written submission), (2) the name and signature of the person filing it, (3) the name of the organization that the submission is filed on behalf of, and (4) whether it contains CBI. If it contains CBI, it must comply with the marking and other requirements set out below in this notice relating to CBI. Submitters of written documents are encouraged to include a short summary of their position or interest at the beginning of the document, and a table of contents when the document addresses multiple issues.

Confidential business information: Any submissions that contain CBI must also conform to the requirements of section 201.6 of the Commission's Rules of Practice and Procedure (19 CFR 201.6). Section 201.6 of the rules requires that the cover of the document and the individual pages be clearly marked as to whether they are the “confidential” or “non-confidential” version, and that the CBI is clearly identified by means of brackets. All written submissions, except for CBI, will be made available for inspection by interested persons.

As requested by the Trade Representative, the Commission will not include any CBI in its report. However, all information, including CBI, submitted in this investigation may be disclosed to and used by: (i) the Commission, its employees and Offices, and contract personnel (a) for developing or maintaining the records of this or a related proceeding, or (b) in internal investigations, audits, reviews, and evaluations relating to the programs, personnel, and operations of the Commission including under 5 U.S.C. Appendix 3; or (ii) U.S. government employees and contract personnel for cybersecurity purposes. The Commission will not otherwise disclose any CBI in a way that would reveal the operations of the firm supplying the information.

Summaries of views of interested persons: Interested persons wishing to have a summary of their views included in the report should include a summary with a written submission no later than July 11, 2025, and must use the Commission template, which can be downloaded from https://www.usitc.gov/docket_services/documents/firm_or_organization_summary_word_limit.pdf. The Commission template must be uploaded as a separate attachment with the written submission, which is filed on EDIS under the document type “Briefs and Written Submissions.” The summary may not exceed 500 words and should not include any CBI. The summary will be published as provided only if it utilizes the Commission-provided template, meets these requirements, and is germane to the subject matter of the investigation. The Commission will list the name of the organization furnishing the summary and will include a link where the written submission can be found.

By order of the Commission.
Issued: August 29, 2024.
Sharon Bellamy,
Supervisory Hearings and Information Officer.

[FR Doc. 2024-19891 Filed 9-4-24; 8:45 am]

BILLING CODE 7020-02-P